FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201403-001.

Agreement Name: SSPL/NPDL Slot Charter Agreement.

Parties: Neptune Pacific Line, Inc.; Swire Shipping Pte. Ltd.

Filing Party: Conte Cicala; Withers Bergman LLP.

Synopsis: Amendment to slot charter agreement to change certain operational details as reflected in the amendment. The parties have requested expedited review.

Proposed Effective Date: 04/25/2024.

Location: https://www2.fmc.gov/FMC.Agreements.Web/Public/AgreementHistory/79503.

Dated: March 13, 2024.
Carl Savoy,
Federal Register Alternate Liaison Officer.

[FR Doc. 2024-05685 Filed 3-15-24; 8:45 am]

BILLING CODE 6730-02-P